DEPARTMENT OF HOUSING AND URBAN DEVELOPMENT

[Docket No. FR 5481-N-23]

Notice of Proposed Information Collection for Public Comment; Rural Housing Stability Program Registration

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: February 27, 2012.

ADDRESSES: Interested persons are invited to submit comments regarding this proposal. Comments should refer to the proposal by name/or OMB Control number and should be sent to: Colette Pollard, Departmental Reports Management Officer, QDAM, Department of Housing and Urban Development, 451 7th Street SW., Room 4160, Washington, DC 20410-5000; telephone (202) 402-3400, (this is not a toll-free number) or email Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, Department of Housing and Urban Development, 451 7th Street SW., Room 7262, Washington, DC 20410; telephone (202) 708-1590 (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; i.e., permitting electronic submission of responses.

This Notice also lists the following information:

Title of Proposal: Rural Housing Stability Program Registration.

Description of the need for the information proposed: This submission is to request a new collection for the reporting burden associated with registration requirements that Rural Housing Stability Program (RHSP) applicants will be expected to complete prior to actual application. This submission is limited to the reporting burden under the RHSP program, created through the HEARTH Act. The statutory provisions and the implementing interim regulations that govern RHSP require these registration data elements.

Agency Form Numbers:

Members of the affected public: RHSP applicant representatives.

Estimation of the total number of hours needed to prepare the information collection including number of respondents, frequency of response, and hours of response:

Approximately 230 rural counties, deemed eligible by HUD, will complete the RHSP Registration which will require approximately 1 hour to complete. The registration will occur once per year prior to the release of the annual RHSP Notice of Funding Availability. The approximate total number of hours needed for all applicants reporting per year is 230 hours.

Status of proposed information collection: New Collection for the implementation of a related (to the former CoC-based programs) but new program created under the HEARTH Act.

Authority: Section 3506 of the Paperwork Reduction Act of 1995, 44 U.S.C. Chapter 35, as amended.

Dated: December 19, 2011.
Clifford Taffet,
General Deputy Assistant Secretary for Community Planning and Development.

[FR Doc. 2011-33331 Filed 12-27-11; 8:45 am]

BILLING CODE 4210-67-P